DEPARTMENT OF THE INTERIOR

Bureau of Land Management

[AK-932-1430-ET; FF-84742]

Notice of Proposed Withdrawal Extension and Opportunity for Public Meeting; Alaska

AGENCY: Bureau of Land Management, Interior.

ACTION: Notice.

SUMMARY: The U.S. Department of the Air Force (USAF) has filed an application with the Bureau of Land Management that proposes to extend the duration of Public Land Order (PLO) No. 6705 for an additional 20-year period. PLO No. 6705 withdrew approximately 3,630 acres of public land from surface entry and mining, to protect the USAF Beaver Creek Research Site. The land has been and will remain closed to mineral leasing. This notice also gives an opportunity to comment on the proposed action and to request a public meeting.

DATES: Comments and requests for a public meeting must be received by June 13, 2007.

ADDRESSES: Comments and meeting requests should be sent to the Alaska State Director, BLM Alaska State Office, 222 West 7th Avenue, No. 13, Anchorage, Alaska 99513-7599.

FOR FURTHER INFORMATION CONTACT: Terrie D. Evarts, BLM Alaska State Office, 907-271-5630.

SUPPLEMENTARY INFORMATION: The withdrawal created by PLO No. 6705 (54 FR 978, January 11, 1989), will expire on January 10, 2009, unless extended. The USAF has filed an application to extend PLO No. 6705 for an additional 20-year period to protect the integrity of the information being monitored by seismic equipment at the USAF Beaver Creek Research Site. This withdrawal comprises approximately 3,630 acres of public land located within:

Copper River Meridian

T.15 N., R. 19 E.,

Secs. 14, 15, secs. 20 to 29, inclusive,

Secs. 33 and 34, and is described in PLO No. 6705 (54 FR 978, January 11, 1989).

A complete description, along with all other records pertaining to the extension application, can be examined in the BLM Alaska State Office at the address shown above.

As extended, the withdrawal would not alter the applicability of those public land laws governing the use of land under lease, license, or permit or governing the disposal of the mineral or vegetative resources other than under the mining and mineral leasing laws.

The use of a right-of-way or interagency or cooperative agreement would not adequately protect the Federal investment in the Beaver Creek Research Site.

There are no suitable alternative sites available since the Beaver Creek Research Site is already constructed on the above-described public land.

No water rights would be needed to fulfill the purpose of the requested withdrawal extension.

For a period of 90 days from the date of publication of this notice, all persons who wish to submit comments, suggestions, or objections in connection with the proposed withdrawal extension may present their views in writing to the BLM State Director at the address indicated above. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested parties who desire a public meeting for the purpose of being heard on the proposed withdrawal must submit a written request to the State Director at the address indicated above within 90 days from the publication of this notice. Upon determination by the authorized officer that a public meeting will be held, a notice of the time and place will be published in the Federal Register at least 30 days before the scheduled date of the meeting.

The withdrawal extension proposal will be processed in accordance with the regulations set forth in 43 CFR 2310.4 and subject to Section 810 of the Alaska National Interest Lands Conservation Act, 16 U.S.C. 3120 (2000).

(Authority: 43 CFR 2310.3-1(b)).

Dated: November 2, 2006.
Carolyn J. Spoon,
Chief, Branch of Lands and Realty.

Editorial Note: This document was received at the Office of the Federal Register on March 9, 2007.

[FR Doc. E7-4688 Filed 3-14-07; 8:45 am]

BILLING CODE 4310-JA-P